SMALL BUSINESS ADMINISTRATION

Data Collection Available for Public Comments

ACTION: 60-day notice and request for comments.

SUMMARY: The Small Business Administration (SBA) intends to request approval, from the Office of Management and Budget (OMB) for the new collection of information described below. The Paperwork Reduction Act (PRA) of 1995, 44 U.S.C. Chapter 35 requires federal agencies to publish a notice in the Federal Register concerning each proposed collection of information to OMB, and to allow 60 days for the public to comment in response to the notice. This notice complies with such requirements and announces SBA's proposal to conduct a survey of the small businesses who participate in SBA's Regional Innovation Clusters (RIC) program.

DATES: Submit comments on or before August 10, 2015.

ADDRESSES: Send all comments to Brittany Borg, Contracting Officer Representative, Office of Entrepreneurial Development, U.S. Small Business Administration, 409 3rd Street SW. Suite 6200, Washington, DC 20416.

FOR FURTHER INFORMATION CONTACT: Brittany Borg, Contracting Officer Representative, 202-401-1354, oedsurvey@sba.gov or Curtis B. Rich, Management Analyst, 202-205-7030, curtis.rich@sba.gov

SUPPLEMENTARY INFORMATION: This is a request for the collection of new information.

In October 2014, a new cohort of sites was added to the Regional Innovation Clusters (RIC) initiative, which was originally started in October 1, 2010 by the Small Business Administration (SBA)'s Office of Entrepreneurial Development. Through this initiative, organizations in 11 communities across the U.S. have been selected to provide industry-specific assistance to small businesses, and to develop industry relationships and supply chains within their regions. Clusters—geographically concentrated groups of interconnected businesses, suppliers, service providers, and associated institutions in a particular industry or field—act as a networking hub to convene a number of resources to help navigate the funding, procurement, and supply-chain opportunities in a specific industry.

SBA is conducting an evaluation of the Regional Innovation Clusters initiative to determine how the clusters have developed, the type and volume of services they provided to small businesses, client perceptions of the program, and the various outcomes related to their existence, including collaboration among firms, innovation, and small business growth. Small business growth will be compared to the overall growth of firms in those same regions and industries. This evaluation will also include lessons learned and success stories. SBA proposes the use of three instruments for data collection and analysis of three distinct populations. These instruments are: (1) Small Business Survey, (2) Large Organization Survey and (3) Cluster Administrator Survey. In addition, SBA plans to interview each of the 11 cluster administrators several times a year regarding program impact and successes or challenges, and to obtain clarifications on information provided in quarterly reports. Each of the proposed surveys will be administered electronically and will contain both open- and close-ended questions. The information collected and analyzed from these instruments will contribute to monitoring performance metrics and program goals, as well as recommendations on improving program practices.

(a) Solicitation of Public Comments:

SBA is requesting comments on (a) whether the collection of information is necessary for the agency to properly perform its functions; (b) whether the burden estimates are accurate; (c) whether there are ways to minimize the burden, including through the use of automated techniques or other forms of information technology; and (d) whether there are ways to enhance the quality, utility, and clarity of the information collected.

(b) Summary of Information Collection:

Small Business Survey

Description of Respondents: small businesses participating in the 11 clusters.

Estimated Number of Respondents: 410.

Estimated Annual Responses: 410.

Estimated Annual Hour Burden: 218.

Large Organization Survey

Description of Respondents: large organizations (e.g., universities, public sector agencies) participating in one of the 11 clusters.

Estimated Number of Respondents: 195.

Estimated Annual Responses: 195.

Estimated Annual Hour Burden: 71.

Cluster Administrator Survey

Description of Respondents: administration team of one of the 11 clusters.

Estimated Number of Respondents: 11.

Estimated Annual Responses: 11.

Estimated Annual Hour Burden: 80.

Curtis B. Rich,
Management Analyst.

[FR Doc. 2015-14003 Filed 6-8-15; 8:45 am]

BILLING CODE P